ENVIRONMENTAL PROTECTION AGENCY

[FRL-8934-6]

Office of Research and Development; Ambient Air Monitoring Reference and Equivalent Methods: Designation of One New Reference Method and Two New Equivalent Methods

AGENCY: Environmental Protection Agency.

ACTION: Notice of the designation of one new reference method and two new equivalent methods for monitoring ambient air quality.

SUMMARY: Notice is hereby given that the Environmental Protection Agency (EPA) has designated, in accordance with 40 CFR Part 53, one new reference method for measuring concentrations of oxides of nitrogen (NOX) in the ambient air and two new equivalent methods, one for measuring concentrations of ozone (O3) in the ambient air and one for measuring concentrations of sulfur dioxide (SO2) in the ambient air.

FOR FURTHER INFORMATION CONTACT: Surender Kaushik, Human Exposure and Atmospheric Sciences Division (MD-D205-03), National Exposure Research Laboratory, U.S. EPA, Research Triangle Park, North Carolina 27711. Phone: (919) 541-5691, e-mail: Kaushik.Surender@epa.gov.

SUPPLEMENTARY INFORMATION: In accordance with regulations at 40 CFR Part 53, the EPA evaluates various methods for monitoring the concentrations of those ambient air pollutants for which EPA has established National Ambient Air Quality Standards (NAAQSs) as set forth in 40 CFR Part 50. Monitoring methods that are determined to meet specific requirements for adequacy are designated by the EPA as either reference methods or equivalent methods (as applicable), thereby permitting their use under 40 CFR Part 58 by States and other agencies for determining compliance with the NAAQSs.

The EPA hereby announces the designation of one new reference method for measuring NOX in the ambient air and two new equivalent methods, one for measuring concentrations of O3 in the ambient air and one for measuring SO2 in the ambient air. These designations are made under the provisions of 40 CFR Part 53, as amended on December 18, 2006 (71 FR 61271).

The new reference method for NOX is an automated method (analyzer) utilizing the measurement principle based on gas phase chemiluminescence and the calibration procedure specified in Appendix F of 40 CFR part 50. This newly designated reference method is identified as follows:

RFNA-0809-186, “Ecotech Serinus 40 Oxides of Nitrogen Analyzer”, operated in the range of 0-0.5 ppm, with a five-micron Teflon® filter element installed, and with the following selected: Control Loop-Enabled, Diagnostic Mode-Operate, Pres/Temp/Flow Compensation-Enabled, Span Compensation-Disabled, with concentration automatically corrected for temperature and pressure changes, and operated according to the Serinus 40 Oxides of Nitrogen Analyzer User Manual.

The new equivalent method for O3 is an automated method that utilizes a measurement principle based on non-dispersive ultraviolet absorption photometry. The newly designated equivalent method for O3 is identified as follows:

EQOA-0809-187, “Ecotech Serinus 10 Ozone Analyzer”, operated in the range of 0-0.5 ppm, with a five-micron Teflon® filter element installed, and with the following selected: Control Loop-Enabled, Diagnostic Mode-Operate, Pres/Temp/Flow Compensation-Enabled, Span Compensation-Disabled, with concentration automatically corrected for temperature and pressure changes, and operated according to the Serinus 10 Ozone Analyzer User Manual.

The new equivalent method for SO2 is an automated method (analyzer) that utilizes a measurement principle based on ultraviolet fluorescence. The newly designated equivalent method for SO2 is identified as follows:

EQSA-0809-188, “Ecotech Serinus 50 Sulfur Dioxide Analyzer”, operated in the range of 0-0.5 ppm, with a five-micron Teflon® filter element installed, and with the following selected: Background-Enabled, Control Loop-Enabled, Diagnostic Mode-Operate, Pres/Temp/Flow Compensation-Enabled, Span Compensation-Disabled, with concentration automatically corrected for temperature and pressure changes, and operated according to the Serinus 50 Sulfur Dioxide Analyzer User Manual.

Applications for the reference method and equivalent method determinations for these candidate methods were received by the EPA on March 19, 2008, April 22, 2009 and June 22, 2009, respectively. The monitors are commercially available from the applicant, Ecotech Pty. Ltd., 1492 Ferntree Gully Road, Knoxfield, Victoria, 3180, Australia.

Test analyzers representative of these methods have been tested in accordance with the applicable test procedures specified in 40 CFR Part 53 (as amended on December 18, 2006). After reviewing the results of those tests and other information submitted by the applicant in the respective applications, EPA has determined, in accordance with Part 53, that these methods should be designated as a reference or equivalent method, as appropriate. The information submitted by the applicant in the respective applications will be kept on file, either at EPA's National Exposure Research Laboratory, Research Triangle Park, North Carolina 27711 or in an approved archive storage facility, and will be available for inspection (with advance notice) to the extent consistent with 40 CFR Part 2 (EPA's regulations implementing the Freedom of Information Act).

As designated reference or equivalent methods, these methods are acceptable for use by states and other air monitoring agencies under the requirements of 40 CFR Part 58, Ambient Air Quality Surveillance. For such purposes, each method must be used in strict accordance with the operation or instruction manual associated with the method and subject to any specifications and limitations (e.g., configuration or operational settings) specified in the applicable designated method description (see the identifications of the methods above).

Use of the method should also be in general accordance with the guidance and recommendations of applicable sections of the “Quality Assurance Handbook for Air Pollution Measurement Systems, Volume I,” EPA/600/R-94/038a and “Quality Assurance Handbook for Air Pollution Measurement Systems, Volume II, Ambient Air Quality Monitoring Program” EPA-454/B-08-003, December, 2008 (available at http://www.epa.gov/ttn/amtic/qabook.html). Vendor modifications of a designated equivalent method used for purposes of Part 58 are permitted only with prior approval of the EPA, as provided in Part 53. Provisions concerning modification of such methods by users are specified under Section 2.8 (Modifications of Methods by Users) of Appendix C to 40 CFR Part 58.

In general, a method designation applies to any sampler or analyzer which is identical to the sampler or analyzer described in the application for designation. In some cases, similar samplers or analyzers manufactured prior to the designation may be upgraded or converted (e.g., by minor modification or by substitution of the approved operation or instruction manual) so as to be identical to the designated method and thus achieve designated status. The manufacturer should be consulted to determine the feasibility of such upgrading or conversion.

Part 53 requires that sellers of designated reference or equivalent method analyzers or samplers comply with certain conditions. These conditions are specified in 40 CFR 53.9.

Aside from occasional breakdowns or malfunctions, consistent or repeated noncompliance with any of these conditions should be reported to: Director, Human Exposure and Atmospheric Sciences Division (MD-E205-01), National Exposure Research Laboratory, U.S. Environmental Protection Agency, Research Triangle Park, North Carolina 27711.

Designation of these new reference and equivalent methods is intended to assist the States in establishing and operating their air quality surveillance systems under 40 CFR Part 58. Questions concerning the commercial availability or technical aspects of the method should be directed to the applicant.

Jewel F. Morris,
Acting Director, National Exposure Research Laboratory.

[FR Doc. E9-18388 Filed 7-30-09; 8:45 am]

BILLING CODE 6560-50-P